NATIONAL SCIENCE FOUNDATION

Sunshine Act Meetings

The National Science Board, pursuant to NSF regulations (45 CFR part 614), the National Science Foundation Act, as amended (42 U.S.C. 1862n-5), and the Government in the Sunshine Act (5 U.S.C. 552b), hereby gives notice of the scheduling of a teleconference for the transaction of National Science Board business, as follows:

Time and Date: Closed teleconference of the Committee on Strategy of the National Science Board, to be held Tuesday, August 28, 2018 from 4:00 p.m. to 4:45 p.m. EDT.

Place: This meeting will be held by teleconference at the National Science Foundation, 2415 Eisenhower Avenue, Alexandria, VA 22314.

Status: Closed.

Matters to be Considered: Chair's opening remarks; discussion of FY 2020 NSF, NSB, and OIG budget requests.

Contact Person For More Information: Point of contact for this meeting is: Kathy Jacquart, 2415 Eisenhower Avenue, Alexandria, VA 22314. Telephone: (703) 292-7000. You may find meeting information and updates (time, place, subject matter or status of meeting) at https://www.nsf.gov/nsb/meetings/notices.jsp#sunshine.

Chris Blair,
Executive Assistant to the National Science Board Office.

[FR Doc. 2018-18141 Filed 8-17-18; 4:15 pm]

BILLING CODE 7555-01-P